DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Logbook Family of Forms.

Form Number(s): None.

OMB Approval Number: 0648-0016.

Type of Request: Regular submission.

Burden Hours: 18,714.

Number of Respondents: 7,389.

Average Hours per Response: Annual fixed-cost reports, 30 minutes; economic cost per trip reports, 10 minutes; headboat and Colombian fishery logbooks, 18 minutes; golden crab, reef fish-mackerel, wreckfish and shrimp logbooks, 10 minutes; live rock and discard logbooks, 18 minutes; no-fishing responses for golden crab, reef fish-makerel and Colombian fisheries, 2 minutes.

Needs and Uses: The catch and effort data are needed for scientific analyses that support critical conservation and management decisions that are made by national and international fishery management agencies. In addition, biologist need data on the amount of fish, marine mammals, and sea turtles are caught or interacted with. This family of forms also includes the collection of cost-earning information and discards reported by fishermen.

Affected Public: Business or other for-profit organizations; individuals or households.

Frequency: Annually and by trip.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 4, 2006.
Gwellnar Banks,
Management Analyst, Office of the Chief Information Officer.

[FR Doc. E6-20795 Filed 12-7-06; 8:45 am]

BILLING CODE 3510-22-P